DEPARTMENT OF LABOR

Employment and Training Administration

[TA-W-40,919]

Sovereign Adhesives Incorporated, Formerly Croda Adhesives, Ewing, NJ; Notice of Negative Determination Regarding Application for Reconsideration

By application postmarked of June 7, 2002, a worker requested administrative reconsideration of the Department's negative determination regarding eligibility for workers and former workers of the subject firm to apply for Trade Adjustment Assistance (TAA) under petition TA-W-40,919. The TAA denial notice applicable to workers of Sovereign Adhesives Incorporated, formerly Croda Adhesives, Ewing, New Jersey, was signed on April 30, 2002 and published in the Federal Register on May 17, 2002 (67 FR 35143).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Sovereign Adhesives Incorporated, formerly Croda Adhesives, Ewing, New Jersey engaged in employment related to the production of adhesives, was denied because the “contributed importantly” group eligibility requirement of Section 222(3) of the Trade Act of 1974, as amended, was not met. The preponderance in the declines in employment at the subject plant was related to Sovereign Specialty Chemicals, Inc. acquiring Croda International Plc Specialty adhesive and coatings business in October 2000. Following this acquisition production was transferred from the Croda plant in Ewing, New Jersey to other Sovereign plants located in the United States.

The petitioner alleges, based on the company's SEC filings, that they have manufacturing plants in Brazil, Belgium and the United Kingdom. The SEC filing states that the Brazilian plant would be a conditional sale. The petitioner indicates the subject plant supplied Latiseal type sealants to Brazil and they would start production on their own and send them to the United States. The petitioner further indicates that the Ewing plant also produced acrylic blends 29-044 and 29-045, which were shipped to American and Canadian customers and subsequently replaced by European imports. The petitioner feels these events were overlooked.

A review of the initial investigation and further contact with the company revealed that the company did not import the sealants or blends as addressed by the petitioner above during the relevant period. The company indicated that any imported products like or directly competitive with what the subject plant produced would be “less than negligible”.

Further review of the initial investigation shows the preponderance in the declines in employment at the subject plant was related to a domestic shift in plant production to Buffalo, New York and Akron, Ohio. Also, in the initial investigation the company reported no declines in their customer base during the relevant period. Therefore, any potential imports of products “like or directly competitive” with what the subject plant produced would not meet the “contributed importantly” group eligibility requirement of Section 222(3) of the Trade Act of 1974, as amended.

Conclusion

After review of the application and investigative findings, I conclude that there has been no error or misinterpretation of the law or of the facts which would justify reconsideration of the Department of Labor's prior decisions. Accordingly, the application is denied.

Signed at Washington, DC, this 25th day of July, 2002.
Edward A. Tomchick,
Director, Division of Trade Adjustment Assistance.

[FR Doc. 02-19953 Filed 8-6-02; 8:45 am]

BILLING CODE 4510-30-P